DEPARTMENT OF AGRICULTURE

Office of the Secretary

Reestablishment of the Advisory Committee on Biotechnology and 21st Century Agriculture

AGENCY: Agricultural Research Service, USDA.

ACTION: Notice.

SUMMARY: The Secretary of Agriculture intends to reestablish the Advisory Committee on Biotechnology and 21st Century Agriculture (AC21) for a two-year period.

FOR FURTHER INFORMATION CONTACT: Questions should be addressed to Michael Schechtman, Designated Federal Official, telephone (202) 720-3817; fax (202) 690-4265; email michael.schechtman@ars.usda.gov.

SUPPLEMENTARY INFORMATION: Advisory Committee Purpose: USDA supports the responsible development and application of biotechnology within the global food and agricultural system. Biotechnology intersects many of the policies, programs, and functions of USDA. The charge for the AC21 is two-fold: To examine the long-term impacts of biotechnology on the U.S. food and agriculture system and USDA; and to provide guidance to USDA on pressing individual issues, identified by the Office of the Secretary, related to the application of biotechnology in agriculture. The AC21 will meet in Washington, DC, up to four (4) times per year.

Done at Washington, DC, this 11th day of February 2015.
Catherine E. Woteki,
Under Secretary, REE, Chief Scientist, USDA.

[FR Doc. 2015-04107 Filed 2-26-15; 8:45 am]

BILLING CODE 3410-03-P